DEPARTMENT OF AGRICULTURE

Forest Service

Oregon Coast Provincial Advisory Committee

AGENCY: Forest Service, USDA.

ACTION: Notice of meeting.

SUMMARY: The Oregon Coast Province Advisory Committee will meet at Surftides Inn, Lincoln City. The agenda includes: Bureau of Land Management Western Oregon Planning Revision, Review of WOPR Issues and work towards recommendation, Public Comment.

DATES: The meeting will be held September 13, 2007 beginning at 9 a.m.

ADDRESSES: The meeting will be held at 2945 NW. Jetty Ave., Lincoln City, OR 97367.

FOR FURTHER INFORMATION CONTACT: Joni Quarnstrom, Public Affairs Specialist, Siuslaw National Forest, 541-750-7075, or write to Suislaw National Forest Supervisor, 4077 SW. Research Way, Corvallis, OR 97339.

SUPPLEMENTARY INFORMATION: The meeting is open to the public. Council Discussion is limited to Forest Service/BLM staff and Council Members. Lunch will be on your own. A public input session will be at 2 p.m. for fifteen minutes. The meeting is expected to adjourn around 3 p.m.

Dated: August 28, 2007.
Chip Weber,
Acting Forest Supervisor.

[FR Doc. 07-4301 Filed 8-31-07; 8:45 am]

BILLING CODE 3410-11-M